DEPARTMENT OF THE INTERIOR

National Park Service

Merced Wild and Scenic River Revised Comprehensive Management Plan and Final Supplemental Environmental Impact Statement; Yosemite National Park; Tuolumne, Mariposa, and Madera Counties, California; Notice of Availability

Summary: Pursuant to section 102(2)(c) of the National Environmental Policy Act of 1969 (Pub. L. 91-190, as amended), the Council of Environmental Quality regulations (40 CFR part 1500), and the Wild and Scenic Rivers Act (as amended, 16 U.S.C. 1271), the National Park Service, Department of the Interior, has prepared the Final Merced Wild and Scenic River Revised Comprehensive Management Plan and Supplemental Environmental Impact Statement (Final Revised Merced River Plan/SEIS). It is intended to amend and supplement the Merced Wild and Scenic River Comprehensive Management Plan and Final Environmental Impact Statement (Merced River Plan/FEIS) released in June 2000. The Final Revised Merced River Plan/SEIS identifies and evaluates four alternatives for guiding management of the Merced Wild and Scenic River within the jurisdiction of the National Park Service in Yosemite and the El Portal Administrative Site. Potential impacts and appropriate mitigation measures are assessed for each alternative. When approved, the plan will serve as a template for all future decisions relating to recreation and land use within the 81-mile Merced River corridor on both the main stem and South Fork. The primary goals of the plan are to ensure the free-flowing condition of the river, along with providing long-term protection and enhancement of what the Wild and Scenic Rivers Act calls the river's “Outstandingly Remarkable Values” the unique qualities that make the river worthy of special protection.

Purpose and Need for Federal Action: The Merced River Plan is the official document for guiding future management of the main stem and South Fork of the Merced Wild and Scenic River within the jurisdiction of the National Park Service (NPS). In August 2000, the Merced River Plan/FEIS was approved (the Record of Decision was subsequently revised in November 2000). Shortly after the Record of Decision was signed, the plan became the subject of a lengthy litigation process. In April 2004, the U.S. Court of Appeals for the 9th Circuit directed the NPS to prepare a “new or revised” comprehensive management plan that addresses two deficiencies identified in the Court's October 27, 2003 opinion (Friends of Yosemite Valley v. Norton, 348 F.3d 789, 803 9th Cir. 2003). The Court ruled that: (1) The revised plan must implement a user capacity program that presents specific measurable limits on use, and (2) the revised plan must reassess the river corridor boundary in the El Portal Administrative Site based on the location of Outstandingly Remarkable Values. The programmatic guidance identified herein would revise and supplement the Merced River Plan/FEIS and the park's 1980 General Management Plan.

Proposed Plan and Alternatives: In the proposed Revised Merced River Plan, Alternative 2 (agency preferred alternative) would include all of the elements of the No Action Alternative, with the addition of implementing the Visitor Experience Resource Protection (VERP) user capacity component, along with interim limits on some park facilities; the El Portal segment boundary would be redrawn to a quarter-mile on either side of the river. In addition to this proposed plan, the Final Revised Merced River Plan/SEIS identifies and analyzes three other alternatives: Alternative 1—No Action; Alternative 3—Segment Limits with VERP Program; and Alternative 4—Management Zone Limits with VERP Program. Alternative 2 has also been deemed to be the “environmentally preferable” alternative.

The No Action Alternative represents a baseline from which to compare the three action alternatives. Under Alternative 1, the Merced River Plan—as detailed in the 2000 Record of Decision (and subsequent revision)—would continue to guide management in the river corridor. Application of its management elements (boundaries, classifications, Outstandingly Remarkable Values, management zoning, River Protection Overlay, Section 7 determination process) would continue as presented in the plan. However, a program of standards and indicators under the Visitor Experience Resource Protection (VERP) framework would not be in place and the park would continue managing user capacity under existing programs and policies outlined in the February 2004 User Capacity Program for the Merced Wild and Scenic River Corridor. This program includes continuation of the current wilderness management program and existing Wilderness Trailhead Quota System. Alternative 1 would implement the narrow boundary for the El Portal segment as described in the selected alternative of the Merced River Plan/FEIS (100-year floodplain or River Protection Overlay [whichever is greater] along with adjacent wetlands).

Alternative 3 would also include all of the elements from the No Action alternative, in addition to a VERP user capacity component (as described in Alternative 2), along with a maximum daily limit for each river segment and an annual visitation limit of 5.32 million; the El Portal segment would have the maximum quarter-mile boundary.

Alternative 4 would contain the elements of No Action in addition to a VERP user capacity component (as described in Alternative 2), along with limits for each river management zone and an annual visitation limit of 3.27 million; the El Portal segment boundary would be drawn according to the location of Outstandingly Remarkable Values.

Planning Background: The draft and final Revised Merced River Plan/SEIS were prepared pursuant to the Wild and Scenic Rivers Act and National Environmental Policy Act. On July 27, 2004, a Notice of Intent to prepare an environmental impact statement was published in the Federal Register. At this time, a 30-day scoping period was initiated. In response to public comment, this scoping period was extended to September 10, 2004. During scoping, a series of public meetings were held. A letter from the Superintendent was sent to over 8,000 interested members of the public on the park's Planning Mailing list, encouraging them to submit ideas, issues, and concerns relating to the scope of this planning effort. In addition, the scoping period and associated public meetings were publicized via regional media, on the park's Web site, through emailed notices on the park's electronic newsletter, and on various state-wide online bulletin boards. Over 100 letters, faxes, and emails were received and considered during the development of the Draft Revised Merced River Plan/SEIS. All written scoping comments, as well as oral testimony from public hearings, can be viewed on the park's Web site (http://www.nps.gov/yose/planning/mrp/revision). A scoping report is also available.

On January 14, 2005, a Notice of Availability for the Draft Merced Wild and Scenic River Revised Comprehensive Management Plan Supplemental Environmental Impact Statement was published in the Federal Register. The public review period continued through March 22, 2005. Approximately 1,500 printed copies and 600 CD-ROM versions of the draft SEIS were mailed to interested individuals and organizations. In February and March 2005, a series of public meetings was held in locations throughout California to discuss the draft document. During the public comment period, eleven public meetings were hosted throughout California between February 22, 2005 and March 7, 2005. Meetings were held at El Portal, San Francisco, Burbank, Oakhurst, Mammoth Lakes, Sacramento, Fresno, Merced, Mariposa, Groveland and in Yosemite Valley. An additional Open House was hosted in Yosemite Valley prior to the end of the public comment period. Each public meeting was set up to allow for (1) informal conversations between park staff (including consultants) and the public, (2) a presentation by park staff on the plan's proposed elements, and (3) a formal public hearing attended by a court reporter. The public was encouraged to submit written comments on the Draft Revised Merced River Plan/SEIS via letter, email or fax. Attendees could also leave written comments on comment forms provided at the meetings.

The NPS contacted local, regional, and national media outlets, issued press releases that were faxed and emailed to media outlets and phone calls that were made to newspaper and news reporters to generate interest in the plan. In addition, paid newspaper advertisements were placed in the Mariposa Gazette, the Sierra Star (Oakhurst, CA), the Union Democrat (Sonora, CA), the Merced Sun-Star and the Mammoth Times. Paid public notices were placed in the San Francisco Chronicle, the L.A. Times, the Sacramento Bee, and the Fresno Bee. Numerous stories about the plan and the schedule of public meetings appeared in local and regional newspapers. In addition, several project fact sheets were posted on the park's Web site; fliers were posted on community bulletin boards, post offices, and local businesses in communities where public meetings were hosted; and press release announcements were included in the park's Daily Report throughout the entire comment period. The park specifically initiated dialogue with several interested local parties. These included park employees and their families, Delaware North Companies Parks and Resorts at Yosemite (primary concessioner) employees and residents, and park partner staff such as the Yosemite Institute, the Yosemite Association, and The Yosemite Fund. In addition, there was extensive outreach within the local communities of El Portal and Wawona through participation at local Mariposa County Planning Advisory Committee meetings. The park also conducted a “walking tour” in El Portal to discuss the process for identifying Outstandingly Remarkable Values within the El Portal segment of the Merced River and the rationale for the various El Portal boundary alternatives. The NPS engaged gateway communities throughout the process through personal communications and meetings between the park staff and gateway community members.

As a result of the public review period, the NPS received comments from 114 individuals, 25 organizations, 6 government agencies, 2 tribes and 1 university, including public testimony given by individuals at public meetings. Over 900 individual comments were received. The analysis of these comments generated about 400 concerns statements, which were categorized and considered for incorporation in the planning process. The public comments received and transcripts from the public hearings are available for viewing on the park Web site (http://www.nps.gov/yose/planning/mrp/revision). The Public Comment Analysis and Response Report is included as Appendix F in the Final SEIS.

Distribution of Final Revised Merced River Plan/SEIS: A mail-back postcard was sent to all individuals and organizations on the park's general mailing list asking recipients if they would like to receive a printed copy or CD-ROM version (or both) of the Final Revised Merced River Plan/SEIS. This announcement also indicated that the plan would be available for viewing on the park's Web site (http://www.nps.gov/yose/planning). Copies of the final plan will also be available at the National Park Service headquarters in Yosemite Valley, the Yosemite Valley Research Library, the National Park Service warehouse building in El Portal, and at a number local and regional libraries (listed in Chapter VI of the Final SEIS).

Decision Process: Depending upon the response from other agencies, interested organizations, and the general public, at this time it is anticipated that a Record of Decision would be approved not sooner than at least 30 days have elapsed after publication by the EPA of their filing notice for the Final Revised MRP/SEIS. Notice of the approved decision will be posted in the Federal Register and announced in local and regional media. As a delegated EIS, the official responsible for the decision is the Regional Director, Pacific West Region, National Park Service; subsequently the official responsible for implementing the approved Revised Merced River Plan is the Superintendent, Yosemite National Park.

Dated: May 18, 2005.
Jonathan B. Jarvis,
Regional Director, Pacific West Region.

[FR Doc. 05-12207 Filed 6-20-05; 8:45 am]

BILLING CODE 4312-52-P